FEDERAL RESERVE SYSTEM

Formations of, Acquisitions by, and Mergers of Bank Holding Companies; Correction

This corrects notice FR Doc. 2025-22972 published on page 58245 the issue for Tuesday, December 16, 2025.

In the second column, paragraph A. Federal Reserve Bank of Atlanta, entry 1. the notice relating to Anthem Financial Corporation, Palaquemaine, Louisiana; is hereby withdrawn.

Board of Governors of the Federal Reserve System.
Michele Taylor Fennell,
Associate Secretary of the Board.

[FR Doc. 2025-23442 Filed 12-18-25; 8:45 am]

BILLING CODE P